OFFICE OF PERSONNEL MANAGEMENT

Proposed Collection; Comment Request for Expiring Information Collections: SF 2802 and SF 2802B

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for reclearance of an information collection, the SF 2802, Application for Refund of Retirement Deductions (Civil Service Retirement System) and SF 2802B, Current/Former Spouse's Notification of Application for Refund of Retirement Deductions. OPM must have the SF 2802 completed and signed before paying a refund of retirement contributions from the Civil Service Retirement and Disability Fund. SF 2802B must be completed in those instances where there is a spouse or former spouse(s) who must be notified of the employee's intent to take a refund from the Fund.

Comments are particularly invited on: Whether this collection of information is necessary for the proper performance of functions of the Office of Personnel Management, and whether it will have practical utility; whether our estimate of the public burden of this collection of information is accurate, and based on valid assumptions and methodology; and ways in which we can minimize the burden of the collection of information on those who are to respond, through the use of appropriate technological collection techniques or other forms of information technology.

Approximately 32,000 SF 2802 forms are completed annually. We estimate it takes approximately 45 minutes to complete the form. The annual burden is 24,075 hours. Approximately 28,890 SF 2802B forms are processed annually. We estimate it takes approximately 15 minutes to complete this form. The annual burden is 7,223 hours. The total annual burden is 31,298 hours.

For copies of this proposal, contact Mary Beth Smith-Toomey on (202) 606-8358, or email to mbtoomey@opm.gov.

DATES: Comments on this proposal should be received on or before March 26, 2001.

ADDRESSES: Send or deliver comments to—Ronald W. Melton, Chief, Operations Support Division, Retirement and Insurance Service, U.S. Office of Personnel Management, 1900 E Street, NW., Room 3349, Washington, DC 20415-3540.

FOR INFORMATION REGARDING ADMINISTRATIVE COORDINATION—CONTACT: Donna G. Lease, Budget & Administrative Services Division, (202) 606-0623.

Office of Personnel Management.
Janice R. Lachance,
Director.

[FR Doc. 01-1965 Filed 1-22-01; 8:45 am]

BILLING CODE 6325-50-U